DEPARTMENT OF COMMERCE

International Trade Administration

[A-533-873]

Certain Cold-Drawn Mechanical Tubing of Carbon and Alloy Steel From India: Final Results of Antidumping Duty Administrative Review; 2022-2023; Correction

AGENCY: Enforcement and Compliance, International Trade Administration, Department of Commerce.

ACTION: Notice, correction.

SUMMARY: The U.S. Department of Commerce (Commerce) published notice in the Federal Register of April 14, 2025, in which Commerce published the final results of the antidumping duty (AD) administrative review for certain cold-drawn mechanical tubing of carbon and alloy steel from India. In that notice, Commerce did not include all of the names that potential entries could enter under for one of the mandatory respondents, Goodluck India Limited. This notice corrects the company name from Goodluck India Limited to Goodluck India Limited, Good Luck Steel Tubes Ltd., Good Luck Industries, and Goodluck Industries. Therefore, the cash deposit and assessment rates calculated for Goodluck India Limited apply to Good Luck Steel Tubes Ltd., Good Luck Industries, and Goodluck Industries.

FOR FURTHER INFORMATION CONTACT: Colin Thrasher, AD/CVD Operations, Office V, Enforcement and Compliance, International Trade Administration, U.S. Department of Commerce, 1401 Constitution Avenue NW, Washington, DC 20230; telephone: (202) 482-3004.

SUPPLEMENTARY INFORMATION:

Background

On April 14, 2025, Commerce published in the Federal Register the Final Results of the 2022-2023 AD administrative review of certain cold-drawn mechanical tubing of carbon and alloy steel from India.¹ We incorrectly omitted additional names that shipments for Goodluck India Limited could enter under, into the United States, beyond “Goodluck India Limited.” ²

¹ See Certain Cold-Drawn Mechanical Tubing of Carbon and Alloy Steel from India: Final Results of Antidumping Duty Administrative Review; 2022-2023, 90 FR 15551 (April 14, 2025) (Final Results).

² See, e.g., Certain Cold-Drawn Mechanical Tubing of Carbon and Alloy Steel from India: Final Results of Antidumping Duty Administrative Review; 2021-2022, 88 FR 81367, 81368 (November 22, 2023).

Correction

In the Federal Register of April 14, 2025, in FR Doc 2025-06323, on page 15552, in the dumping margin rate table, correct the company name from “Goodluck India Limited” to: Goodluck India Limited, Good Luck Steel Tubes Ltd., Good Luck Industries, and Goodluck Industries.

Notification to Interested Parties

This notice is issued and published in accordance with sections 751(a)(1) and 777(i)(1) of the Tariff Act of 1930, as amended.

Dated: June 5, 2025.
Christopher Abbott,
Deputy Assistant Secretary for Policy and Negotiations, performing the non-exclusive functions and duties of the Assistant Secretary for Enforcement and Compliance.

[FR Doc. 2025-10569 Filed 6-10-25; 8:45 am]

BILLING CODE 3510-DS-P